DEPARTMENT OF ENERGY

Federal Energy Regulatory Commission

[Docket No. GT01-24-000]

Northern Natural Gas Company; Notice of Proposed Changes in FERC Gas Tariff

May 24, 2001.

Take notice that on May 18, 2001, Northern Natural Gas Company (Northern) tendered for filing changes in its FERC Gas Tariffs, Fifth Revised Volume No. 1 and Original Volume No. 2, the following tariff sheets proposed to be effective June 18, 2001:

Fifth Revised Volume No. 1

Third Revised Sheet No. 3

Sixth Revised Sheet No. 4

Seventh Revised Sheet No. 5

Sixth Revised Sheet No. 6

Fourth Revised Sheet No. 7

Original Volume No. 2

Sixty-Fifth Revised Sheet No. 1

30 Revised Sheet No. 1A

21 Revised Sheet No. 1A.1

Tenth Revised Sheet No. 1A.2

Twelfth Revised Sheet No. 1A.3

41 Revised Sheet No. 1C.a

1 Revised Sheet No. 155

15 Revised Sheet No. 236

First Revised Sheet No. 820

2 Revised Sheet No. 888

First Revised Sheet No. 967

First Revised Sheet No. 1226

Second Revised Sheet No. 1333

First Revised Sheet No. 1909

First Revised Sheet No. 1956

First Revised Sheet No. 1600

First Revised Sheet No. 1605

First Revised Sheet No. 1610

Second Revised Sheet No. 1644

First Revised Sheet No. 2300

First Revised Sheet No. 2312

First Revised Sheet No. 2447

Northern states that the above sheets effective June 18, 2001 represent the cancellation of individually certificated transportation and/or exchange agreements filed as Rate Schedules X-14, X-18, X-57, X-63, X-74, X-78, X-95, X-96, X-97, X-99, X-105, X-106, X-110, T-18, T-51, and T-57 from Northern's Original Volume No. 2 FERC Gas Tariff, and their associated deletion from the Table of Contents in Northern's Volume Nos. 1 and 2 Tariffs.

Northern further states that copies of the filing have been mailed to each of its customers and interested State Commissions.

Any person desiring to be heard or to protest said filing should file a motion to intervene or a protest with the Federal Energy Regulatory Commission, 888 First Street, NE., Washington, DC 20426, in accordance with Sections 385.214 or 385.211 of the Commissions's Rules and Regulations. All such motions or protests must be filed in accordance with Section 154.210 of the Commission's Regulations. Protests will be considered by the Commission in determining the appropriate action to be taken, but will not serve to make protestants parties to the proceedings. Any person wishing to become a party must file a motion to intervene. Copies of this filing are on file with the Commission and are available for public inspection in the Public Reference Room. This filing may be viewed on the web at http://www.ferc.fed.us/online/rims.htm (call 202-208-2222 for assistance). Comments, protests, and interventions may be filed electronically via the internet in lieu of paper. See, 18 CFR 385.2001(a)(1)(iii) and the instructions on the Commission's web site at http://www.ferc.fed.us/efi/doorbell.htm.

David P. Boergers,
Secretary.

[FR Doc. 01-13596 Filed 5-30-01; 8:45 am]

BILLING CODE 6717-01-M